FEDERAL COMMUNICATIONS COMMISSION

[DA 05-674]

End User Common Line Procedures

AGENCY: Federal Communications Commission.

ACTION: Notice.

SUMMARY: This document establishes final procedures for resolving End User Common Line (EUCL) informal complaints. The Commission's actions are necessary in order to resolve several hundred longstanding informal complaints previously filed by payphone providers against local exchange carriers (LEC). The intended effect of the EUCL Procedures Order is to notify EUCL informal complainants that, if they intend to pursue their claims and collect damages, they must follow a number of specific procedures between Friday, April 22, 2005 and Friday, September 9, 2005, or risk losing the right to pursue certain claims. All informal complainants are strongly encouraged to read closely the EUCL Procedures Order.

DATES: EUCL informal complainants must file their Notices of Intent to Convert by Friday, April 22, 2005, if they wish to pursue their claims via the Commission's formal complaint process. The final deadline for actual conversion of informal complaints to formal complaints is extended to Friday, September 9, 2005, for those complaints for which a Notice of Intent to File is filed by Friday, April 22, 2005.

ADDRESSES: Submit electronic notification of intent to pursue existing informal complaints at the following Web address: http://www.fcc.gov/eb/eucl, click on the Complainant Notification Form. Alternatively, notice of intent to proceed may be made by certified mail (postmarked no later than April 22, 2005) to: EB/MDRD, Federal Communications Commission, 445 12th Street, SW., Room 4-C366, Washington, DC 20554, Attention: EUCL Notice. See Supplementary Information for address and mailing instructions for all converted formal complaints.

FOR FURTHER INFORMATION CONTACT: Sandra Gray-Fields, 202-418-7330.

SUPPLEMENTARY INFORMATION: On March 25, 2005, the Enforcement Bureau of the Federal Communications Commission (Commission) released the EUCL Procedures Order establishing final procedures for resolving End User Common Line (EUCL) informal complaints. The critical legal issues raised by the existing EUCL informal complaints have been previously and definitively addressed in consolidated formal complaint proceedings before the Commission, see, e.g., Communications Vending Corporation of Arizona, Inc. et al. v. Citizens Communications Company f/k/a Citizens Utility Company and Citizens Telecommunications Company d/b/a Citizens Telecom, et al., Memorandum Opinion and Order, 17 FCC Rcd 24201 (2002), Communications Vending Corporation of Arizona, Inc., et al., v. FCC, et al., 365 F.3d 1064 (D.C.Cir. 2004). Accordingly, the EUCL Procedures Order informs all remaining informal complainants that they must initiate final resolution of their claims within the next few months. Specifically, each payphone provider who previously filed a EUCL informal complaint and who still wishes to pursue its claims, must now take the following actions: (1) notify the Commission by Friday, April 22, 2005, of its intent to pursue its claim by inputting notification data into the Commission's Web site at http://www.fcc.gov/eb/eucl, click on the Complainant Notification Form, or notice of intent to proceed may be made by sending the information set forth in Paragraph 8 of the EUCL Procedures Order by certified mail (postmarked no later than April 22, 2005) to: EB/MDRD, Federal Communications Commission, 445 12th Street, SW., Room 4-C366, Washington, DC 20554, Attention: EUCL Notice; (2) make a good faith effort to settle its claim against the LEC prior to filing a formal complaint; and, (3) if settlement efforts are unsuccessful, file a formal complaint by Friday, September 9, 2005, in accordance with the streamlined procedures described in the EUCL Procedures Order.

The EUCL Procedures Order may have a further impact on a complainant's right to recover damages. All informal complainants should read thoroughly the EUCL Procedures Order. If a complainant fails to provide Notice of Intent to File as described herein and in the EUCL Procedures Order, that complainant will not be able to pursue its claim further via the Commission's formal complaint process. The Enforcement Bureau has deferred the mandatory filing date for the conversion of informal complaints to formal complaints numerous times, see, e.g., Informal Complaints filed by Independent Payphone Service Providers against Various Local Exchange Carriers Seeking Refunds of End User Common Line Charges, Order, 16 FCC Rcd 3669 (CCB 1999); Informal Complaints filed by Independent Payphone Service Providers against Various Local Exchange Carriers Seeking Refunds of End User Common Line Charges, Order, 2004 WL 2973797, File Nos. IC-98-42853, et al., DA No. 04-4022 (EB Rel. Dec. 22, 2004). The extension of the conversion date in the EUCL Procedures Order to September 9, 2005 is considered to be the final extension. Formal complainants must deliver the following copies of the newly converted formal complaint to the following addresses on or before September 9, 2005: (a) the original copy of the newly converted formal complaint should be delivered, along with the requisite filing fee, to the Federal Communications Commission, Enforcement, PO Box 358120, Pittsburgh, PA 15251-5120; (b) one copy of the formal complaint should be delivered to Office of the Secretary, Federal Communications Commission, 445 12th Street SW., Room TW-204(B), Washington, DC 20554; and, (c) two copies of the formal complaint should be delivered to Market Disputes Resolution Division, Enforcement Bureau, Federal Communications Commission, 445 12th Street SW., Room TW-204(B), Washington, DC 20554.

The complete text of the EUCL Procedures Order is available for inspection and copying during normal business hours in the FCC Reference Information Center, Portals II, 445 12th Street SW., Room CY-A257, Washington, DC 20554. This document may also be purchased from the Commission's duplicating contractor, Best Copy and Printing, Inc. (BCPI), Portals II, 445 12th Street, SW., Room CY-B402, Washington, DC 20554, telephone 202-863-2893, facsimile 202-863-2898, or via e-mail at http://www.bcpiweb.com. An electronic copy of the EUCL Procedures Order is also available at http://www.fcc.gov/eb/mdrd/Items.html.

The Commission will not send a copy of this Order pursuant to the Congressional Review Act, see 5 U.S.C. 801 (a)(1)(A), because there are no new rules attached to the Notice and the Order simply responds to informal complaints previously filed by parties to this particular Commission proceeding.

Federal Communications Commission.
Christopher N. Olsen,
Deputy Chief, Enforcement Bureau.

[FR Doc. 05-6559 Filed 4-5-05; 8:45 am]

BILLING CODE 6712-01-P